Title 3—

The President

Proclamation 10334 of January 14, 2022

Religious Freedom Day, 2022

By the President of the United States of America

A Proclamation

From the earliest days of our Nation, courageous people from every part of the world have come to the United States in search of religious liberty, risking everything to flee oppression, persecution, and discrimination because of their beliefs. Our Founders enshrined the principle of religious freedom in the First Amendment to our Constitution, establishing it as a cornerstone of who we are as a Nation. Today, America remains a religiously diverse Nation—a land uniquely strengthened by the routine and extraordinary commingling of faiths and belief systems. On Religious Freedom Day, we recommit ourselves to the protection and advancement of this vital aspect of our American character—and to protecting the freedom of people of all faiths and none, both across our Nation and around the world.

Our country's greatest strength is and always has been our diversity, including the multitude of faiths and beliefs practiced across our Nation. My Administration is committed to strengthening the Federal workforce by ensuring that it resembles the full breadth of our people by promoting diversity, equity, inclusion, and accessibility, including on the basis of religion. That is why I reestablished the White House Office of Faith-Based and Neighborhood Partnerships to serve people in need by partnering with both religious and secular organizations. These public-private partnerships embody the American system of religious freedom and are effective—whether by working together to get people vaccinated against COVID-19, providing nutritious meals to children, or welcoming and resettling refugees to the United States.

Everyone should feel safe when attending a religious service, school, a community center event, or while walking down the street wearing the symbols of their faith. To help ensure that everyone can practice their faith without fear, my Administration has implemented increased funding for the Department of Homeland Security's Nonprofit Security Grant Program, which makes funding available to threatened nonprofits—including houses of worship and other religious affiliated entities—to improve their safety and security. I also signed the COVID-19 Hate Crimes Act, which included the Jabara-Heyer NO HATE Act to provide tools that we know are effective in preventing and prosecuting hate crimes. We must constantly affirm that hate has no safe harbor in America. My Administration remains steadfast in our efforts to lead and advance human rights including the freedom of religion around the globe at a time when many people are subject to horrifying persecution for their faith and beliefs.

In my life, faith has always been a beacon of hope and a calling to purpose, as it is for so many Americans, and I believe that protecting religious freedom is as important now as it has ever been. We must continue our work to ensure that people of all faiths—or none—are treated as full participants in society, equal in rights and dignity. We can only fully realize the freedom we wish for ourselves by helping to ensure liberty for all. On Religious Freedom Day, let us rededicate ourselves to these fundamental principles.

NOW, THEREFORE, I, JOSEPH R. BIDEN JR., President of the United States of America, by virtue of the authority vested in me by the Constitution and laws of the United States, do hereby proclaim January 16, 2022, as Religious Freedom Day.

IN WITNESS WHEREOF, I have hereunto set my hand this fourteenth day of January, in the year of our Lord two thousand twenty-two, and of the Independence of the United States of America the two hundred and forty-sixth.

[FR Doc. 2022-01162

Filed 1-19-22; 8:45 am]

Billing code 3395-F2-P